DEPARTMENT OF ENERGY

Federal Energy Regulatory Commission

[Docket No. RP00-325-000]

Colorado Interstate Gas Company; Notice of Technical Conference

September 14, 2000.

On June 15, 2000, Colorado Interstate Gas Company (CIG) filed in compliance with Order No. 637. Several parties have protested various aspects of CIG's filing.

Take notice that a technical conference to discuss the various issues raised by CIG's filing will be held on Tuesday, October 3, 2000, at 10 a.m., in a room to be designated at the Offices of the Federal Energy Regulatory Commission, 888 First Street, NE., Washington, DC 20426. This technical conference may extend to Wednesday, October 4, 2000.

Among the major areas to be addressed is CIG's segmentation proposal. Therefore CIG should provide current maps of its system and be prepared to discuss its system's operations. Parties protesting aspects of CIG's filing are invited to present alternative proposals.

All interested persons and Staff are permitted to attend.

Linwood A. Watson, Jr.,
Acting Secretary.

[FR Doc. 00-24097 Filed 9-19-00; 8:45 am]

BILLING CODE 6717-01-M